DEPARTMENT OF HEALTH AND HUMAN SERVICES

Health Resources and Services Administration

[HRSA-03-040]

Fiscal Year 2003 Competitive Application Cycle for Health Center Network Planning and Development Grants; CFDA Number 93.224

AGENCY: Health Resources and Services Administration, HHS.

ACTION: Notice of availability of funds.

SUMMARY: The Health Resources and Services Administration (HRSA) announces the availability of up to $7,900,000 for fiscal year 2003 to support: (1) The planning and development of practice management networks or managed care networks or plans through the Integrated Services Development Initiative (ISDI); (2) development of an integrated management information system through the Shared Integrated Management Information System program (SIMIS); and (3) development of a technology infrastructure to integrate uniform technical information with business systems and care management through integrated information communication and technology development projects (ICT).

Authorizing Legislation: Section 330(c)(1)(B) of the Public Health Service Act (Act), as amended, authorizes support to health centers to plan and develop a managed care network or plan. Section 330(c)(1)(C) of the Act authorizes support for the planning and development of practice management networks.

DATES: The timelines for application receipt, review, and award are as follows:

Application Deadline: August 29, 2003.

Grant awards announced: September 28, 2003.

Applications will be considered on time if they are received by 5 p.m. Eastern Standard Time on August 29, 2003, or before the established deadline date. Applications that are not received by the deadline will be returned to the applicant.

Applicants should note that HRSA is accepting grant applications online in the last quarter of the Fiscal Year (July through September). Please refer to the HRSA grants schedule at http://www.hrsa.gov/grants.htm for more information.

How To Request and Where To Send an Application: To obtain a complete application kit, (i.e., application instructions, necessary forms, and application review criteria), call toll free 1-877-HRSA-123 (1-877-477-2123). When contacting the HRSA Grants Application Center (GAC) please refer to the program announcement number HRSA-03-040 and the name of this program. An original and two copies of the applications must be submitted to the HRSA GAC: HRSA Grants Application Center, 901 Russell Avenue, Suite 450, Gaithersburg, Maryland 20879, Fax: 1-877-HRSA-345 (1-877-477-2345), e-mail: hrsagac@hrsa.gov.

Applicants will receive a letter acknowledging receipt of their applications.

Eligible Applicants: The following entities are eligible to apply for funding under this announcement:

1. A health center that has received section 330(e) funding for 2 consecutive years is eligible to apply for funding for the planning and development of a managed care network and plan under the ISDI program.

2. Health centers (Community Health Center, Migrant Health Center, Health Care for the Homeless, Public Housing Primary Care and School-Based Health Centers) that receive assistance under section 330 are eligible to apply for funding for the planning and development of a practice management network under the ISDI project.

3. Health centers (Community Health Center, Migrant Health Center, Health Care for the Homeless, Public Housing Primary Care and School-Based Health Centers) that receive assistance under section 330 or Primary Care Associations receiving support under section 330(m) that are applying on behalf of health centers in a State or marketplace are eligible to apply for funding for an integrated management information system.

4. A health center (Community Health Center, Migrant Health Center, Health Care for the Homeless, Public Housing Primary Care and School-Based Health Centers) that has received assistance under section 330 or a Primary Care Association receiving support under section 330(m) that is applying on behalf of health centers in a State or marketplace is eligible to apply for funding for an integrated information and communication technology development project.

Matching or Cost Sharing Requirement: Grantees must provide at least 20 percent (for planning grants) or 40 percent (for developmental grants) of the total approved costs of the project. The total approved cost of the project is the sum of the HRSA share and the non-Federal share. Applications must demonstrate that at least 5 percent (for planning grants) or 10 percent (for developmental grants) of the cost sharing requirement is met through cash contributions for planning or development projects respectively. The remaining non-Federal share may be met by cash or in-kind contributions.

Application Review and Funding Criteria: All eligible applications that are responsive to the requirements and received in time for orderly processing will be reviewed by an Objective Review Committee comprised of non-Federal reviewers using the following review criteria:

ISDI Planning Projects

1. Appropriateness in meeting expectations of the ISDI—extent to which the application effectively promotes the integration and coordination of primary care across business and clinical functions through the planning phase.

2. Readiness for Network Development—the extent to which the application demonstrates both an appropriate multi-year strategic planning process and financial plan.

3. Strength of Proposed Collaboration—extent to which the application demonstrates that all health centers in the marketplace are collaborating in the planning project.

4. Capacity of the Network to Integrate—extent to which the application demonstrates that network members are planning to collaborate, share, and/or integrate functions or components of their systems.

5. Appropriateness to State Environment and Marketplace—the extent to which the applications demonstrates how the project will strengthen the position of health centers in the state environment and/or market place.

ISDI Developmental Projects

1. Appropriateness in meeting expectations of the ISDI—extent to which the application effectively promotes the integration and coordination of primary care across business and clinical functions among network members.

2. Readiness for Network Development—the extent to which the application demonstrates both an appropriate multi-year strategic planning process and commitment (as evidenced by the contribution of time, resources, cash, etc.) by each of the collaborators in the strategic planning process, work plan, budget spreadsheet, and memorandum of agreement.

3. Strength of Proposed Collaboration—extent to which the application demonstrates that all health centers in the marketplace are collaborating, including, the level of involvement of key management staff, clinical personnel, boards among the network members in the development, implementation and/or performance of the project.

4. Capacity of the Network to Integrate—extent to which the application demonstrates that network members will collaborate, share, and/or integrate functions or components of their systems.

5. Appropriateness to State Environment and Marketplace—the extent to which the application demonstrates how the network will strengthen the position of health centers in the state environment and/or marketplace.

SIMIS Projects

1. Readiness for SIMIS Development—extent to which the application demonstrates that it has a multi-year strategic planning process that provides the network's initial assessments, including completed market and organizational assessments, agreement among the network members on the mission, goals, objectives and timetable for the project, and planning for the SIMIS.

2. Strength of Proposed Collaboration—extent to which all health centers in the State are collaborating, including the extent to which: (a) Key management staff of the network members are involved in the development, implementation and/or performance of the project; (b) the proposed project is suited to the organizational/administrative capacity of the network members based on the organizational assessment; and (c) economies of scale are achieved by the other than information system means, e.g., centralized billing/collection.

3. Technical Capacity of the Network to Integrate—extent to which: (a) Network members will collaborate, share, and/or integrate functions or components of their systems to facilitate centralize data integration (e.g., common business rules/practices, data structure, practice management software); and (b) current business and clinical practices will be altered or improved as a result of the SIMIS network.

ICT Projects

1. Effectiveness—extent to which application describes how health outcomes and systems of care would be improved through integrating the health disparities collaborative care model with information and communications technology.

2. Efficiency—extent to which application demonstrates how inefficiencies such as lost medical records, lab results, and ineffective appointment systems will be eliminated through combining information and communications technology with the care model.

3. Safety and Risk Management—extent to which application demonstrates how decision support would be used throughout the delivery system; such as how primary care provider order entry will prevent medication or lab errors.

4. Patient-Family Centeredness—extent to which the application documents how patients will be connected to their health information and describes support/educational tools, such as disease management patient information and on-line support groups.

5. Equity—extent to which the application demonstrates that all populations, including racial and ethnic minorities and uninsured populations, are receiving high quality care and care that is customized to meeting their needs.

6. Timeliness—extent to which the application demonstrates electronic communication between providers and clinicians, for example, a cutting edge appointment system developed for rapid responses to patient needs.

Funding Preference: A funding preference is defined as the funding of a specific category or group of approved applications ahead of other categories of applications. A preference will be given to approved applications proposing to serve sparsely populated rural or frontier areas.

Funding Priorities

A funding priority is defined as the favorable adjustment of aggregate review scores of individually approved applications. Applications for grant support may be submitted without requesting a funding priority; however, approval of a funding priority will enhance an applicant's competitive score.

ISDI, SIMIS and ICT Projects

1. Programs Demonstrating Appropriate Use of Technological Improvements

Because significant efficiencies in the delivery of health care services can be realized through the appropriate use of technological improvements, a priority will be placed on applications that incorporate such improvements to enhance the quality of care, increase the efficiency and effectiveness of operations, and reduce costs. Applicants are encouraged to consider how their proposals might use telehealth and/or new emerging technologies to achieve their project goals. The advent of communication tools such as distance learning, remote patient monitoring, personal data assistants (PDAs), interactive video, satellite broadcasting, and store-and-forward technology are just some of the many health-care focused technological applications that can help improve access to care either directly or indirectly by improving the efficiency of health care providers. Applicants that propose such improvements will receive 2 additional points.

ICT Projects Only

Priority will be given to those applicants with public/private collaborators with an existing track record in the development or support of ICT, networks, and health disparities collaboratives for health centers working collaboratively with the State PCA. Applicants meeting this priority will receive 3 additional points.

Priority will be given to projects that address a technical methodology and approach that meets current technology capabilities and marketplace standards, as specified by the two BPHC documents, Functional Requirements for Practice Management Systems and Functional Requirements for Electronic Medical Records (available on Web site: http://www.bphc.hrsa.gov/chc/). Applicants meeting this priority will receive 3 additional points.

Estimated Amount of Available Funds: For fiscal year 2003, approximately $600,000 will be available for ISDI planning projects; approximately $1,800,000 will be available to support ISDI development projects; approximately $2,500,000 will be available through the SIMIS; and approximately $3,000,000 will be available to support ICT development projects.

Estimated Project Period: ISDI Planning Projects—up to 2 years; ISDI Development Projects—up to 4 years; SIMIS Projects—up to 3 years; and ICT Projects—up to 3 years.

Estimated Number of Awards: It is anticipated that the following number of awards will be made: ISDI Planning Projects—3 to 6 awards; ISDI Development Projects—10 to 15 awards; SIMIS Projects—4 to 6 awards; and ICT Projects—up to 5 awards.

Estimated Average Size of Each Award: The estimated costs are expected to vary considerably. Award will range from $75,000 to $200,000 for ISDI Planning Projects;—$150,000-$525,000 for ISDI Developmental Projects; $150,000 to $500,000 for SIMIS Projects and $450,000 to $750,000 for ICT Projects.

FOR FURTHER INFORMATION CONTACT: Applicants may contact the following individuals:

For ISDI: Lisa Dolan-Branton at LDolan@hrsa.gov or (301) 594-4306.

For SIMIS: Jayne Bertovich at JBertovich@hrsa.gov or (301) 594-4318.

For ICT: Lisa Dolan-Branton at LDolan@hrsa.gov or (301) 594-4306.

Paperwork Reduction Act: The application for the Integrated Services Development Initiative has been approved by the Office of Management and Budget (OMB) under the Paperwork Reduction Act. The OMB clearance number is 0920-0428.

Public Health System Reporting Requirements: Under these requirements (approved by the Office of Management and Budget under OMB number 0937-0195), a community-based non-governmental applicant must prepare and submit a Public Health System Impact Statement to the head of the appropriate State and local health agencies in the area(s) to be impacted no later than the Federal application receipt due date. This statement must include:

1. A copy of the face page of the application (SF 424) and

2. A summary of the project, not to exceed one page, which provides:

a. A description of the population to be served,

b. A summary of the services to be provided, and

c. A description of the coordination planned with the appropriate State and local health agencies.

Executive Order 12372: These programs have been determined to be subject to the provisions of Executive Order 12372 concerning intergovernmental review of Federal programs by appropriate health planning agencies, as implemented by 45 CFR part 100. Executive Order 12372 allows States the option of setting up a system for reviewing applications from within their States for assistance under certain Federal programs. The application packages pursuant to this notice will contain a listing of States with review systems and will provide a single point of contact (SPOC) in the State for review. A list of SPOC contacts is also available at http://www.whitehouse.gov/omb/grants/spoc.html. Applicants (other than federally-recognized Indian tribal governments) should contact their SPOCs as early as possible to alert them to the prospective applications and receive any necessary instructions on the State process. For proposed projects serving more than one State, the applicant is advised to contact the SPOC of each affected State.

Except in unusual circumstances, the due date for State process recommendations is at least 60 days from the deadline date established by the Secretary. 45 CFR 100.8(a)(2). In this instance, there are less that 90 days before the end of the 2003 fiscal year (on September 30, 2003). Due to this unusual circumstance, HRSA is establishing a 30-day due date for State process recommendations, to assure timely consideration of such recommendations. The granting agency does not guarantee that it will accommodate or explain its responses to State process recommendations received after the due date. (See “Intergovernmental Review of Federal Programs,” Executive Order 12372, and 45 CFR part 100, for a description of the review process and requirements.)

Dated: July 25, 2003.
Dennis P. Williams,
Deputy Administrator.

[FR Doc. 03-19504 Filed 7-28-03; 1:43 pm]

BILLING CODE 4165-15-P